INTERNATIONAL TRADE COMMISSION

[Investigation No. 332-573]

Global Economic Impact of Missing and Low Pesticide Maximum Residue Levels; Extension of Time To File Written Submissions, and Delay in Submitting Volume 2 of the Report

AGENCY: United States International Trade Commission

ACTION: Extension of the Deadline for Filing Written Submissions in Connection with Volume 2 of the Report and Extension of the Time for Transmitting Volume 2 of the Report.

SUMMARY: The Commission has extended the deadline for filing written comments relating to volume 2 of its report from June 5, 2020, to July 31, 2020, and in accordance with a request on behalf of the U.S. Trade Representative (USTR), the Commission will submit volume 2 of its report by January 31, 2021 (delivered Monday, February 1, 2021) instead of by October 31, 2020.

DATES:

June 30, 2020: Transmittal of volume 1 of the report to the USTR (this date is unchanged)

July 31, 2020: New deadline for filing written submissions relating to volume 2

January 31, 2021: New transmittal date for volume 2 of the Commission's report to the USTR (Delivered Monday, February 1, 2021)

ADDRESSES: All written submissions should be addressed to the Secretary, United States International Trade Commission, 500 E Street SW, Washington, DC 20436. The public record for this investigation may be viewed on the Commission's electronic docket (EDIS) at https://edis.usitc.gov/.

FOR FURTHER INFORMATION CONTACT: Project Leader Sabina Neumann (volumes 1 and 2) (202-205-3000 or sabina.neumann@usitc.gov) or Deputy Project Leader (volume 2) Brian Daigle (202-205-3458 or brian.daigle@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2002.

SUPPLEMENTARY INFORMATION: The Commission published notice of institution of the above referenced investigation in the Federal Register on September 27, 2019 (84 FR 51178, September 27, 2019). The Commission instituted the investigation following receipt of a request from the USTR on August 30, 2019. The USTR asked that the Commission provide its report in two volumes, with volume 1 provided by June 30, 2020, and volume 2 by October 31, 2020. In its notice announcing the investigation, the Commission noted the respective due dates for volumes 1 and 2 of the report, and in connection with volume 2, requested that written submissions be filed with the Commission by June 5, 2020. On May 28, 2020, the Commission received a request on behalf of the U.S. Trade Representative, requesting that the Commission deliver volume 2 of its report by January 31, 2021. That request noted the disruption and technical issues that have arisen with respect to completion of volume 2 of the report due to the COVID-19 pandemic, including with respect to the ability to do travel-related research, and asked that the Commission transmit volume 2 of the report by January 31, 2021 (delivered Monday, February 1, 2021). The Commission still expects to transmit volume 1 of the report to USTR by June 30, 2020, the date indicated in the notice published in the Federal Register on April 17, 2020.

Written Submissions: The Commission has invited interested parties to submit written statements concerning this investigation. All written submissions should be addressed to the Secretary, and should be received no later than 5:15 p.m., July 31, 2020 for matters to be covered by volume 2 of the Commission's report. All written submissions must conform with the provisions of section 201.8 of the Commission's Rules of Practice and Procedure (19 CFR 201.8). Section 201.8 of the Rules (as further explained in the Commission's Handbook on Filing Procedures) requires that interested parties file documents electronically on or before the filing deadline (see the following paragraph for further information regarding confidential business information or “CBI”). Persons with questions regarding electronic filing should contact the Office of the Secretary, Docket Services Division (202-205-1802). The Commission has waived the requirement in section 201.8(d)(1) of its rules (19 CFR 201.8(d)(1)) that persons filing written submissions must also file paper copies of their written submissions by noon of the next day; accordingly, no paper copies should be filed, nor should copies be filed in any form other than electronic.

Confidential Business Information (CBI): Any submissions that contain CBI must also conform to the requirements of section 201.6 of the Commission's Rules of Practice and Procedure (19 CFR 201.6). Section 201.6 of the Rules requires that the cover of the document and the individual pages be clearly marked as to whether they are the “confidential” or “non-confidential” version, and that the CBI is clearly identified using brackets. The Commission will make all written submissions, except for those (or portions thereof) containing CBI, available for inspection by interested parties.

In his request letter, the USTR stated that his office intends to make the Commission's report available to the public in its entirety, and he asked that the Commission not include any CBI in the report that it delivers to USTR.

The Commission will not include any of the CBI submitted in the course of this investigation in the report it sends to the USTR. However, all information, including CBI, submitted in this investigation may be disclosed to and used (i) by the Commission, its employees and Offices, and contract personnel (a) for developing or maintaining the records of this or a related proceeding, or (b) in internal investigations, audits, reviews, and evaluations relating to the programs, personnel, and operations of the Commission, including under 5 U.S.C. Appendix 3; or (ii) by U.S. government employees and contract personnel for cybersecurity purposes. The Commission will not otherwise disclose any CBI in a manner that would reveal the operations of the firm supplying the information.

Summaries of Written Submissions: The Commission intends to publish any summaries of written submissions filed by interested persons. Persons wishing to have a summary of their submission included in the report should include a summary with their written submission, titled “Public Summary,” and should mark the summary as having been provided for that purpose. The summary may not exceed 500 words, should be in MSWord format or a format that can be easily converted to MSWord, and should not include any CBI. The summary will be published as provided if it meets these requirements and is germane to the subject matter of the investigation. The Commission will identify the name of the organization furnishing the summary and will include a link to the Commission's Electronic Document Information System (EDIS) where the full written submission can be found.

By order of the Commission.
Issued: June 23, 2020.
Lisa Barton,
Secretary to the Commission.

[FR Doc. 2020-13883 Filed 6-26-20; 8:45 am]

BILLING CODE 7020-02-P